FEDERAL HOUSING FINANCE AGENCY

[No. 2009-N-08]

Privacy Act of 1974; System of Records

AGENCY: Federal Housing Finance Agency.

ACTION: Notice of new systems of records with request for comments.

SUMMARY: In accordance with the Privacy Act of 1974 (Privacy Act), the Federal Housing Finance Agency (FHFA) is issuing public notice of its intent to establish and maintain three new Privacy Act systems of records covering the Federal Home Loan Bank System Directory, the Financial Management System, and the Correspondence Tracking System. The first system is titled “FHFA—1 Federal Home Loan Bank System Directory.” The proposed system of records is necessary, as it will contain contact information for current Federal Home Loan Bank (Bank) presidents, chairs, vice chairs, directors, and senior staff; members of the Bank's Affordable Housing Advisory Councils (AHAC); and senior staff at the Banks, Office of Finance, and FHFA. The system will facilitate effective communications between the FHFA, Banks, and Office of Finance. The second system is titled “FHFA—2 Financial Management System.” The proposed system of records is necessary, as it will contain financial and procurement records for prospective, present and former employees, contractors, and vendors of FHFA. The records may include names, social security numbers, credit card numbers, accounts, reimbursements, pay records, transactions, payment agreements, and certificates. The FHFA will use the system to ensure the orderly processing of administrative actions within the agency. The third new system is titled “FHFA—3 Correspondence Tracking System.” The proposed system of records is necessary, as it will contain correspondence and records of communications between FHFA and individuals or entities submitting requests or inquiries to the agency. These records are collected and maintained to facilitate the orderly processing of correspondence by the agency and may include names, supporting documents, and contact information supplied by individuals or entities.

DATES: The addition of these three new systems of records will become effective on August 17, 2009 without further notice unless comments necessitate otherwise.

ADDRESSES: Submit comments to FHFA only once, identified by “2009-N-08”, using any one of the following methods:

• Mail/Hand Delivery: Alfred M. Pollard, General Counsel, Attention: Comments/2009-N-08, Federal Housing Finance Agency, 1700 G Street, NW., Fourth Floor, Washington, DC 20552. Hand delivered packages should be logged at the Guard Desk, First Floor, on business days between 9 a.m. and 5 p.m.

• E-mail: RegComments@fhfa.gov. Comments may be sent by e-mail to Alfred M. Pollard, General Counsel. Please include “Comments/2009-N-08” in the subject line of the message.

• Federal eRulemaking Portal: http://www.regulations.gov. Follow the instructions for submitting comments. If you submit your comment to the Federal eRulemaking Portal, please also send it by e-mail to the FHFA at RegComments@fhfa.gov to ensure timely receipt by the agency. Include the following information in the subject line of your submission: Comments/2009-N-08. See SUPPLEMENTARY INFORMATION for additional information on submission and posting of comments.

FOR FURTHER INFORMATION CONTACT: John Major, Privacy Act Officer, john.major@fhfa.gov or 202-408-2849, or David A. Lee, Senior Agency Official for Privacy, david.lee@fhfa.gov or 202-408-2514 (not toll free numbers), Federal Housing Finance Agency, 1700 G Street, NW., Fourth Floor, Washington DC 20552. The telephone number for the Telecommunications Device for the Deaf is 800-877-8339.

SUPPLEMENTARY INFORMATION:

I. Comments

Instructions: FHFA seeks public comments on the three proposed new systems and will take all comments into consideration before issuing the final notice. See 5 U.S.C. 552a(e)(4) and (11). Comments should include “2009-N-08” and reference any or all titles your comment addresses: “FHFA—1 Federal Home Loan Bank System Directory”; “FHFA—2 Financial Management System.”; or “FHFA—3 Correspondence Tracking System.”

Posting and Public Availability of Comments: All comments received will be posted without change on the FHFA Web site at http://www.fhfa.gov, and will include any personal information provided. In addition, copies of all comments received will be available for examination by the public on business days between the hours of 10 a.m. and 3 p.m., at the Federal Housing Finance Agency, Fourth Floor, 1700 G Street, NW., Washington DC 20552. To make an appointment to inspect comments, please call the Office of General Counsel at 202-414-6924.

Introduction: This notice informs the public of FHFA's proposal to establish and maintain three new systems of records. This notice satisfies the Privacy Act requirement that an agency publish a system of records notice in the Federal Register when there is an addition to the agency's system of records. It has been recognized by Congress that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Act as a rule in accordance with the Administrative Procedures Act. The Director of FHFA has determined that records and information in these three new systems of records are not exempt from requirements of the Privacy Act.

As required by 5 U.S.C. 552a(r) of the Privacy Act, as amended, and pursuant to paragraph 4c of Appendix I to OMB Circular No. A-130, “Federal Agency Responsibilities for Maintaining Records About Individuals,” dated December 12, 2000, 65 FR 239, FHFA has submitted a report describing the three new systems of records covered by this notice, to the Committee on Government Operations of the House of Representatives, the Committee on Governmental Affairs of the Senate, and the Office of Management and Budget.

The proposed three new systems of records described above are set forth in their entirety below.

Dated: June 29, 2009.
James B. Lockhart III,
Director, Federal Housing Finance Agency.

FHFA-1

SYSTEM NAME:

Federal Home Loan Bank System Directory.

Security classification:

None.

SYSTEM LOCATION:

Federal Housing Finance Agency, 1700 G Street, NW., Washington, DC 20552.

CATEGORIES OF INDIVIDUALS COVERED BY THE SYSTEM:

Current Federal Home Loan Bank (Bank) presidents, chairs, vice chairs, directors and senior staff; members of the Bank's Affordable Housing Advisory Councils; and senior staff at the Office of Finance, and Federal Housing Finance Agency (FHFA).

CATEGORIES OF RECORDS IN THE SYSTEM:

Records contain information such as name, role, organization, address, phone number, and e-mail address.

AUTHORITY FOR MAINTENANCE OF THE SYSTEM:

The Federal Home Loan Bank Act (12 U.S.C. 1421-1449), as amended by the Housing and Economic Recovery Act of 2008, Public Law 110-289, 122 Stat. 2654 (2008).

PURPOSE(S):

FHFA collects records to maintain current contact information and facilitate effective communications between individuals at FHFA, the Banks, and the Office of Finance.

ROUTINE USES OF RECORDS MAINTAINED IN THE SYSTEM, INCLUDING CATEGORIES OF USERS AND THE PURPOSES OF SUCH USES:

It shall be a routine use to disclose information contained in this system for the purposes and to the users identified below:

1. The Banks in order to provide contact information for individuals covered by the system.

2. The United States Department of Justice (DOJ) or another Federal agency conducting litigation, or any court or adjudicative or administrative body, if:

a. FHFA, any employee of FHFA in his/her official capacity or in his/her individual capacity if DOJ has agreed to represent the employee, or the United States or any agency thereof, is a party to or has a significant interest in the litigation or proceeding; and

b. FHFA determines that use of the records is relevant and necessary to the litigation or proceeding.

3. The appropriate Federal, State, local or foreign agency or authority responsible for auditing, investigating or prosecuting a violation or potential violation of a criminal or civil law, rule, or regulation or for enforcing or implementing a statute, rule, regulation, or order, if information in the system indicates such a violation.

4. Any source, including a Federal, State, or local agency maintaining civil, criminal or other relevant enforcement information or other pertinent information, such as current licenses, but only to the extent necessary for FHFA to obtain information relevant to a decision concerning the hiring or retention of an individual, the issuance of a security clearance, the letting of a contract, or the issuance of a license, grant, or other benefit.

5. Another Federal agency if the records are relevant and necessary to carry out that agency's authorized functions and to the decision on a matter, including, but not limited to the hiring or retention of an individual, the issuance of a security clearance, the reporting of an investigation of an individual, the letting of a contract, or issuance of a license, grant, or other benefit by the requesting agency.

6. The Office of Management and Budget in connection with the review of private relief legislation.

7. An authorized appeal grievance examiner, a formal complaints examiner, an equal employment opportunity investigator, or an arbitrator or other duly authorized official engaged in investigation or settlement of a grievance, complaint, or appeal filed by an employee.

8. The Office of Personnel Management in connection with the evaluation and oversight of Federal personnel management concerning wages, benefits, retirement deductions, and other information necessary to carry out government-wide personnel functions, and to other Federal agencies to facilitate employee transfers.

9. Authorized employees of a Federal agency for purposes of an audit.

10. A congressional office in response to an inquiry from the congressional office made at the request of the subject individual.

11. The DOJ to determine whether disclosure is required by the Freedom of Information Act (5 U.S.C. 552) (FOIA).

12. An individual or entity submitting a FOIA request if the information is subject to a FOIA exemption but the FHFA determines not to assert the exemption.

13. State and local taxing authorities if the Secretary of the Treasury has entered into an agreement, and the employee is subject to tax by that authority, whether or not tax is withheld.

14. Appropriate persons, consultants, contractors, entities or others when:

a. FHFA suspects or confirms that the security or confidentiality of information in a system of records has been compromised;

b. FHFA determines that as a result of the suspected or confirmed compromise there is a risk of harm to economic or property interests, identity theft or fraud, or harm to the security or integrity of systems or programs (whether maintained by FHFA or another agency or entity) that rely upon the compromised information; and

c. The disclosure made to such agencies, entities and persons is reasonably necessary to assist in connection with FHFA's efforts to respond to the suspected or confirmed compromise and prevent, minimize or remedy such harm.

15. The National Archives and Records Administration and the General Services Administration for records management inspections, surveys and studies and to determine whether the records have sufficient historical or other value to warrant accessioning into the National Archives of the United States.

16. FHFA personnel having a need for access to the records to perform their official functions.

17. A consultant, person, or entity that contracts or subcontracts with FHFA, to the extent necessary for the performance of the contract or subcontract and consistent with the purpose of the system, provided that the person or entity acknowledges in writing that it is required to maintain Privacy Act safeguards for the information.

18. The U.S. Department of the Treasury, Federal debt collection centers, other appropriate Federal agencies, and private collection contractors or other third parties authorized by law, for the purpose of collecting or assisting in the collection of delinquent debts owed to FHFA or the Federal government. Disclosure will be limited to the individual's name, Social Security number, and other information necessary to establish the identity of the individual, and the existence, validity, amount, status, and history of the debt.

19. The U.S. Department of the Treasury to effect issuance of wage payments through electronic funds transfer.

20. The Internal Revenue Service and Social Security Administration.

21. Federal, State and local agencies to assist in processing unemployment claims and enforcing child and spousal support obligations.

22. Federal, State and local government authorities, medical personnel, first responders and other emergency services personnel, and contractors, agency employees or others as necessary for continuity of operations planning, testing and execution, to ensure personnel accountability, or to respond to medical or other emergency situations.

23. Federal agencies as a data source for management information through the production of summary descriptive statistics and analytical studies in support of the functions for which the records are maintained or for related studies.

DISCLOSURE TO CONSUMER REPORTING AGENCIES:

None.

Policies and practice for storing, retrieving, accessing, retaining and disposing of records in the system:

Storage:

Records in this system are stored in electronic format.

Retrievability:

Records can be retrieved by last name, first name, organization, Bank name, and role.

Safeguards:

System access is restricted to authorized users from FHFA, the Banks, and the Office of Finance according to fixed permission levels.

Retention and disposal:

Records pertaining to a particular individual are retained for the length of the individual's term of service. Records are updated as information changes but at least annually.

System manager(s) and address:

Division for Bank Regulation, Federal Housing Finance Agency, 1700 G Street, NW., Washington, DC 20552.

Notification procedures:

Direct inquiries as to whether this system contains a record pertaining to an individual to the Privacy Act Officer by electronic mail, regular mail, or fax. The electronic mail address is: privacy@fhfa.gov. The regular mail address is: Privacy Act Officer, Federal Housing Finance Agency, 1625 Eye Street, NW., Washington, DC 20006. The fax number is: 202-408-2580. For the quickest possible handling, you should mark your electronic mail, letter, or fax and the subject line, envelope, or fax cover sheet “Privacy Act Request” in accordance with the procedures set forth in 12 CFR part 1204.

Record access procedures:

Direct requests for access, amendment, or correction to a record to the Privacy Act Officer, Federal Housing Finance Agency, 1625 Eye Street, NW., Washington DC 20006, in accordance with the procedures set forth in 12 CFR part 1204.

Contesting record procedures:

Direct requests to contest or appeal an adverse determination for a record to the Privacy Act Appeals Officer, Federal Housing Finance Agency, 1625 Eye Street, NW., Washington DC 20006, in accordance with the procedures set forth in 12 CFR part 1204.

Record source categories:

The subject individuals and Bank, Office of Finance, and FHFA staff.

Exemptions claimed for the system:

None.

FHFA-2

System name:

Financial Management System.

Security classification:

None.

System location:

Federal Housing Finance Agency, 1700 G Street, NW., Washington DC 20552.

Categories of individuals covered by the system:

Records cover prospective, present and former employees, contractors, and vendors of the Federal Housing Finance Agency (FHFA).

Categories of records in the system:

Financial Management Records: These records relate to government travel, vendor accounts, other employee reimbursements, interagency transactions, employee pay records, vendor registration data, purchase card accounts and transactions, and program payment agreements.

Procurement Records: These records relate to contractors/vendors if they are individuals, purchase card holders, including the name, social security number, and credit card number for employees who hold Government use cards, and procurement integrity certificates containing certifications by procurement officials that they are familiar with the Federal Procurement Policy Act.

Authority for maintenance of the system:

The Federal Home Loan Bank Act (12 U.S.C. 1421-1449) and Federal Housing Enterprises Financial Safety and Soundness Act of 1992 (12 U.S.C. 4501, et seq.), as amended by the Housing and Economic Recovery Act of 2008, Public Law No. 110-289, 122 Stat. 2654 (2008); Government Organizations and Employees (5 U.S.C. 5701-5709); Money and Finance (31 U.S.C. 3512); Federal Acquisition Regulation (48 CFR chapter 1).

Purpose(s):

FHFA collects and maintains these records to ensure the orderly processing of administrative actions within the agency.

ROUTINE USES OF RECORDS MAINTAINED IN THE SYSTEM, INCLUDING CATEGORIES OF USERS AND THE PURPOSES OF SUCH USES:

It shall be a routine use to disclose information contained in this system for the purposes and to the users identified below:

1. The Administrative Resource Center, Bureau of the Public Debt to complete administrative processing.

2. The United States Department of Justice (DOJ) or another Federal agency conducting litigation, or any court or adjudicative or administrative body, if:

a. FHFA, any employee of FHFA in his/her official capacity or in his/her individual capacity if DOJ has agreed to represent the employee, or the United States or any agency thereof, is a party to or has a significant interest in the litigation or proceeding; and

b. FHFA determines that use of the records is relevant and necessary to the litigation or proceeding.

3. The appropriate Federal, State, local or foreign agency or authority responsible for auditing, investigating, or prosecuting a violation or potential violation of a criminal or civil law, rule, or regulation or for enforcing or implementing a statute, rule, regulation, or order, if information in the system indicates such a violation.

4. Any source, including a Federal, State, or local agency maintaining civil, criminal or other relevant enforcement information or other pertinent information, such as current licenses, but only to the extent necessary for the FHFA to obtain information relevant to a decision concerning the hiring or retention of an individual, the issuance of a security clearance, the letting of a contract, or the issuance of a license, grant, or other benefit.

5. Another Federal agency if the records are relevant and necessary to carry out that agency's authorized functions and to the decision on a matter, including, but not limited to the hiring or retention of an individual, the issuance of a security clearance, the reporting of an investigation of an individual, the letting of a contract, or issuance of a license, grant, or other benefit by the requesting agency.

6. The Office of Management and Budget in connection with the review of private relief legislation.

7. An authorized appeal grievance examiner, a formal complaints examiner, an equal employment opportunity investigator, an arbitrator, or other duly authorized official engaged in investigation or settlement of a grievance, complaint, or appeal filed by an employee.

8. The Office of Personnel Management in connection with the evaluation and oversight of Federal personnel management concerning wages, benefits, retirement deductions, and other information necessary to carry out government-wide personnel functions, and to other Federal agencies to facilitate employee transfers.

9. Authorized employees of a Federal agency for purposes of an audit.

10. A congressional office in response to an inquiry from the congressional office made at the request of the subject individual.

11. The DOJ to determine whether disclosure is required by the Freedom of Information Act (5 U.S.C. 552) (FOIA).

12. An individual or entity submitting a FOIA request if the information is subject to a FOIA exemption but the FHFA determines not to assert the exemption.

13. State and local taxing authorities if the Secretary of the Treasury has entered into an agreement, and the employee is subject to tax by that authority, whether or not tax is withheld.

14. Appropriate persons, consultants, contractors, entities or others when:

a. FHFA suspects or confirms that the security or confidentiality of information in a system of records has been compromised;

b. FHFA determines that as a result of the suspected or confirmed compromise there is a risk of harm to economic or property interests, identity theft or fraud, or harm to the security or integrity of systems or programs (whether maintained by FHFA or another agency or entity) that rely upon the compromised information; and

c. The disclosure made to such agencies, entities, and persons is reasonably necessary to assist in connection with FHFA's efforts to respond to the suspected or confirmed compromise and prevent, minimize or remedy such harm.

15. The National Archives and Records Administration and the General Services Administration for records management inspections, surveys, and studies and to determine whether the records have sufficient historical or other value to warrant accessioning into the National Archives of the United States.

16. FHFA personnel having a need for access to the records to perform their official functions.

17. A consultant, person, or entity that contracts or subcontracts with FHFA, to the extent necessary for the performance of the contract or subcontract and consistent with the purpose of the system, provided that the person or entity acknowledges in writing that it is required to maintain Privacy Act safeguards for the information.

18. The U.S. Department of the Treasury, Federal debt collection centers, other appropriate Federal agencies, and private collection contractors or other third parties authorized by law, for the purpose of collecting or assisting in the collection of delinquent debts owed to FHFA or the Federal government. Disclosure will be limited to the individual's name, Social Security number, and other information necessary to establish the identity of the individual, and the existence, validity, amount, status, and history of the debt.

19. The U.S. Department of the Treasury to effect issuance of wage payments through electronic funds transfer.

20. The Internal Revenue Service and Social Security Administration.

21. Federal, State and local agencies to assist in processing unemployment claims and enforcing child and spousal support obligations.

22. Federal, State and local government authorities, medical personnel, first responders and other emergency services personnel, and contractors, agency employees or others as necessary for continuity of operations planning, testing and execution, to ensure personnel accountability, or to respond to medical or other emergency situations.

23. Federal agencies as a data source for management information through the production of summary descriptive statistics and analytical studies in support of the functions for which the records are maintained or for related studies.

Disclosure to consumer reporting agencies:

In accordance with the Privacy Act (5 U.S.C. 552a(b)(12)), disclosures may be made to “consumer reporting agencies” as defined in 31 U.S.C. 3701(a)(3) to aid in the collection of outstanding debts owed to the Federal Government. After following the prerequisites of 31 U.S.C. 3711, FHFA may disclose information necessary to establish the identity of the individual responsible for the claim, including name, address and taxpayer identification number, the amount, status and history of the claim, and the agency or program under which the claim arose.

Policies and practices for storing, retrieving, accessing, retaining and disposing of records in the system:

Storage:

Records in this system are stored on paper, microform or in electronic media.

Retrievability:

By name, social security number or other assigned identifier.

Safeguards:

Records are maintained in controlled access areas. Identification cards are verified to ensure that only authorized personnel are present. Electronic records are protected by restricted access procedures, including the use of passwords and sign-on protocols that periodically are changed. Only employees whose official duties require access are allowed to view, administer and control these records.

Retention and disposal:

Records are maintained in accordance with National Archives and Records Administration retention schedules. Paper and microform records ready for disposal are destroyed by shredding or maceration. Records in electronic media are electronically erased using accepted techniques.

System manager(s) and address:

Office of Budget and Financial Management, Federal Housing Finance Agency, 1700 G Street, NW., Washington DC 20552.

Notification procedures:

Direct inquiries as to whether this system contains a record pertaining to an individual to the Privacy Act Officer, Federal Housing Finance Agency, 1625 Eye Street, NW., Washington DC 20006, in accordance with the procedures set forth in 12 CFR part 1204.

Record access procedures:

Direct requests to access, amend or correct a record to the Privacy Act Officer, Federal Housing Finance Agency, 1625 Eye Street, NW., Washington DC 20006, in accordance with the procedures set forth in 12 CFR part 1204.

Contesting record procedures:

Direct requests to contest or appeal an adverse determination for a record to the Privacy Act Appeals Officer, Federal Housing Finance Agency, 1625 Eye Street, NW., Washington DC 20006, in accordance with the procedures set forth in 12 CFR part 1204.

Record source categories:

Information is provided by the subject of the record, authorized representatives, supervisors, employers, other employees, other Federal, State or local agencies, and commercial entities.

Exemptions claimed for the system:

None.

FHFA-3

System name:

Correspondence Tracking System

Security classification:

None.

System location:

Federal Housing Finance Agency, 1700 G Street NW., Washington DC 20552.

Categories of individuals covered by the system:

An individual or entity who has submitted a request or inquiry concerning Federal Housing Finance Agency (FHFA) activities or practices.

Categories of records in the system:

Correspondence and records of communications between FHFA and individuals or entities submitting requests or inquiries, including copies of supporting documents and contact information supplied by the individuals or entities.

Authority for maintenance of the system:

The Federal Home Loan Bank Act (12 U.S.C. 1421-1449) and Federal Housing Enterprises Financial Safety and Soundness Act of 1992 (12 U.S.C. 4501, et seq.), as amended by the Housing and Economic Recovery Act of 2008, Public Law 110-289, 122 Stat. 2654 (2008).

Purpose(s):

FHFA collects and maintains these records to facilitate the orderly processing of correspondence by the agency.

ROUTINE USES OF RECORDS MAINTAINED IN THE SYSTEM, INCLUDING CATEGORIES OF USERS AND THE PURPOSES OF SUCH USES:

It shall be a routine use to disclose information contained in this system for the purposes and to the users identified below:

1. The United States Department of Justice (DOJ) or another Federal agency conducting litigation, or any court or adjudicative or administrative body, if:

a. FHFA, any employee of FHFA in his/her official capacity or in his/her individual capacity if DOJ has agreed to represent the employee, or the United States or any agency thereof, is a party to or has a significant interest in the litigation or proceeding; and

b. FHFA determines that use of the records is relevant and necessary to the litigation or proceeding.

2. The appropriate Federal, State, local or foreign agency or authority responsible for auditing, investigating or prosecuting a violation or potential violation of a criminal or civil law, rule, or regulation or for enforcing or implementing a statute, rule, regulation, or order, if information in the system indicates such a violation.

3. Any source, including a Federal, State, or local agency maintaining civil, criminal or other relevant enforcement information or other pertinent information, such as current licenses, but only to the extent necessary for the FHFA to obtain information relevant to a decision concerning the hiring or retention of an individual, the issuance of a security clearance, the letting of a contract, or the issuance of a license, grant or other benefit.

4. Another Federal agency if the records are relevant and necessary to carry out that agency's authorized functions and to the decision on a matter, including, but not limited to the hiring or retention of an individual, the issuance of a security clearance, the reporting of an investigation of an individual, the letting of a contract, or issuance of a license, grant or other benefit by the requesting agency.

5. The Office of Management and Budget in connection with the review of private relief legislation.

6. An authorized appeal grievance examiner, a formal complaints examiner, an equal employment opportunity investigator, or an arbitrator or other duly authorized official engaged in investigation or settlement of a grievance, complaint or appeal filed by an employee.

7. The Office of Personnel Management in connection with the evaluation and oversight of Federal personnel management concerning wages, benefits, retirement deductions and other information necessary to carry out government-wide personnel functions, and to other Federal agencies to facilitate employee transfers.

8. Authorized employees of a Federal agency for purposes of an audit.

9. A congressional office in response to an inquiry from the congressional office made at the request of the subject individual.

10. The DOJ to determine whether disclosure is required by the Freedom of Information Act (5 U.S.C. 552) (FOIA).

11. An individual or entity submitting a FOIA request if the information is subject to a FOIA exemption but the FHFA determines not to assert the exemption.

12. State and local taxing authorities if the Secretary of the Treasury has entered into an agreement, and the employee is subject to tax by that authority, whether or not tax is withheld.

13. Appropriate persons, consultants, contractors, entities or others when:

a. FHFA suspects or confirms that the security or confidentiality of information in a system of records has been compromised;

b. FHFA determines that as a result of the suspected or confirmed compromise there is a risk of harm to economic or property interests, identity theft or fraud, or harm to the security or integrity of systems or programs (whether maintained by FHFA or another agency or entity) that rely upon the compromised information; and

c. The disclosure made to such agencies, entities and persons is reasonably necessary to assist in connection with FHFA's efforts to respond to the suspected or confirmed compromise and prevent, minimize or remedy such harm.

14. The National Archives and Records Administration and the General Services Administration for records management inspections, surveys and studies and to determine whether the records have sufficient historical or other value to warrant accessioning into the National Archives of the United States.

15. FHFA personnel having a need for access to the records to perform their official functions.

16. A consultant, person, or entity that contracts or subcontracts with FHFA, to the extent necessary for the performance of the contract or subcontract and consistent with the purpose of the system, provided that the person or entity acknowledges in writing that it is required to maintain Privacy Act safeguards for the information.

17. The U.S. Department of the Treasury, Federal debt collection centers, other appropriate Federal agencies, and private collection contractors or other third parties authorized by law, for the purpose of collecting or assisting in the collection of delinquent debts owed to FHFA or the Federal government. Disclosure will be limited to the individual's name, Social Security number, and other information necessary to establish the identity of the individual, and the existence, validity, amount, status, and history of the debt.

18. The U.S. Department of the Treasury to effect issuance of wage payments through electronic funds transfer.

19. The Internal Revenue Service and Social Security Administration.

20. Federal, State and local agencies to assist in processing unemployment claims and enforcing child and spousal support obligations.

21. Federal, State and local government authorities, medical personnel, first responders and other emergency services personnel, and contractors, agency employees or others as necessary for continuity of operations planning, testing and execution, to ensure personnel accountability, or to respond to medical or other emergency situations.

22. Federal agencies as a data source for management information through the production of summary descriptive statistics and analytical studies in support of the functions for which the records are maintained or for related studies.

Disclosure to consumer reporting agencies:

None.

Policies and practices for storing, retrieving, accessing, retaining and disposing of records in the system:

Storage:

Records in this system are stored in electronic media and in hard copy.

Retrievability:

Electronic media and paper format are indexed and retrieved by unique identification number that may be cross referenced to the individual's name.

Safeguards:

Records are maintained in controlled access areas. Electronic records are protected by restricted access procedures, including the use of passwords and sign-on protocols that periodically are changed. Only employees whose official duties require access are allowed to view, administer and control these records.

Retention and disposal:

Records are maintained in accordance with National Archives and Records Administration retention schedules. Records are disposed of according to accepted techniques.

System manager(s) and address:

Office of the Director, Federal Housing Finance Agency, 1700 G Street, NW., Washington DC 20552.

Notification procedures:

Direct inquiries as to whether this system contains a record pertaining to an individual to the Privacy Act Officer, Federal Housing Finance Agency, 1625 Eye Street, NW., Washington DC 20006, in accordance with the procedures set forth in 12 CFR part 1204.

Record access procedures:

Direct requests to access, amend or correct a record to the Privacy Act Officer, Federal Housing Finance Agency, 1625 Eye Street, NW., Washington DC 20006, in accordance with the procedures set forth in 12 CFR part 1204.

Contesting record procedures:

Direct requests to contest or appeal an adverse determination for a record to the Privacy Act Appeals Officer, Federal Housing Finance Agency, 1625 Eye Street, NW., Washington DC 20006, in accordance with the procedures set forth in 12 CFR part 1204.

Records source categories:

The information is obtained from the subject individual or entity, congressional offices that initiate a request or inquiry, and other parties providing information to FHFA in an attempt to resolve the request or inquiry.

Exemptions claimed for the system:

None.

[FR Doc. E9-15886 Filed 7-2-09; 8:45 am]

BILLING CODE 8070-01-P